ENVIRONMENTAL PROTECTION AGENCY

[FRL-7543-8]

Proposed CERCLA Section 122(h) Administrative Agreement for Recovery of Response Costs for the Amenia Town Landfill Superfund Site, Town of Amenia, Dutchess County, NY

AGENCY: Environmental Protection Agency.

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of a proposed administrative agreement pursuant to Section 122(h) of CERCLA, 42 U.S.C. 9622(h), for recovery of response costs concerning the Amenia Town Landfill Superfund Site (“Site”) located in the Town of Amenia, Dutchess County, New York. The settlement requires the settling parties, Town of Amenia, New York; Ashland, Inc.; BP America Inc.; Curtiss-Wright Corporation; International Business Machines Corporation; Alastair B. Martin; Estate of Edith Martin; Metal Improvement Company, Inc.; Town of Sharon, Connecticut; Syngenta Crop Protection, Inc.; TBG Services, Inc.; Unisys Corporation; and Weyerhaeuser Company to pay $361,873.17 in reimbursement of EPA's response costs at the Site. The settlement includes a covenant not to sue the settling parties pursuant to Section 107(a) of CERCLA, 42 U.S.C. 9607(a), in exchange for their payments. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before September 12, 2003.

ADDRESSES: The proposed settlement is available for public inspection at EPA Region II offices at 290 Broadway, New York, New York 10007-1866. Comments should reference the Amenia Town Landfill Superfund Site located in the Town of Amenia, Dutchess County, New York, Index No. CERCLA-02-2003-2029. To request a copy of the proposed settlement agreement, please contact the individual identified below.

FOR FURTHER INFORMATION CONTACT: George A. Shanahan, Assistant Regional Counsel, New York/Caribbean Superfund Branch, Office of Regional Counsel, U.S. Environmental Protection Agency, 17th Floor, 290 Broadway, New York, New York 10007-1866. Telephone: 212-637-3171.

Dated: July 31, 2003.
George Pavlou, Director,
Emergency and Remedial Response Division, U.S. Environmental Protection Agency, Region 2.

[FR Doc. 03-20639 Filed 8-12-03; 8:45 am]

BILLING CODE 6560-50-P